DEPARTMENT OF ENERGY

Federal Energy Regulatory Commission

[Project No. 6115-016]

Pyrites Hydro, LLC; Notice of Application Accepted for Filing and Soliciting Motions To Intervene and Protests

June 10, 2022.

Take notice that the following hydroelectric application has been filed with the Commission and is available for public inspection.

a. Type of Application: New Major License.

b. Project No.: 6115-016.

c. Date Filed: August 31, 2021.

d. Applicant: Pyrites Hydro, LLC (Pyrites Hydro).

e. Name of Project: Pyrites Hydroelectric Project (Pyrites Project or project).

f. Location: The existing project is located on the Grass River near the Town of Canton, St. Lawrence County, New York. The project does not occupy any federal land.

g. Filed Pursuant to: Federal Power Act, 16 U.S.C. 791(a)-825(r).

h. Applicant Contact: Mr. Kevin M. Webb, Hydro Licensing Manager, Pyrites Hydro, LLC, 670 N Commercial Street, Suite 204, Manchester, NH 03101, (978) 935-6039; email—kwebb@centralriverspower.com.

i. FERC Contact: Chris Millard at (202) 502-8256; or email at christopher.millard@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Pyrites Hydroelectric Project (P-6115-016).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis.

l. The project consists of the following existing facilities: (1) a 170-foot-long and 12-foot-high concrete Ambursen overflow spillway with 1.5-foot-high flashboards, a 115-foot-long concrete auxiliary spillway, and a 208-foot-long non-overflow dam, which includes a 50-foot-wide intake structure; (2) a 6-foot-diameter, 700-foot-long steel penstock running from the intake structure to an upper powerhouse and a 10-foot-diameter, 2,160-foot-long penstock running from the intake structure to a lower powerhouse; (3) a 21-foot by 31-foot upper powerhouse located 700 feet downstream of the intake structure containing one 1.2-megawatt (MW) turbine/generator unit operating under a rated head of 76 feet and a 50-foot by 53-foot lower powerhouse located 1,200 feet downstream of the tailrace containing two 3.5-MW turbine/generator units operating under a rated head of 111 feet; (4) a 50-foot by 97-foot 115/4.16/2.3-kilovolt (kV) switchyard and substation for use by both powerhouses; (5) a 470-foot-long 2.3-kV transmission line connecting the upper powerhouse to the switchyard; (6) a 1,150-foot-long 4.16-kV transmission line connecting the lower powerhouse to the switchyard; and (7) appurtenant facilities.

The Pyrites Project is operated in a run-of-river mode with an average annual generation of 27,865 megawatt-hours.

Pyrites Hydro proposes to continue to operate the project in a run-of-river mode and maintain a continuous minimum flow to the bypassed reach of 45 cubic feet per second or inflow to the impoundment, whichever is less.

m. A copy of the application is available for review via the Commission's website at http://www.ferc.gov using the “eLibrary” link. Enter the docket number excluding the last three digits in the docket number field to access the document (P-6115). For assistance, contact FERC Online Support. In addition, the public portions of the application are available during regular business hours at the Canton Free Library located at 8 Park Street, Canton, New York 13617.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural Schedule: The application will be processed according to the following schedule. Revisions to the schedule will be made as appropriate.

Issue Scoping Document 1 for comments—July 2022

Request Additional Information (if necessary)—September 2022

Issue Scoping Document 2 (if necessary)—October 2022

Issue Notice of Ready for Environmental Analysis—October 2022

Dated: June 10, 2022.
Debbie-Anne A. Reese,
Deputy Secretary.

[FR Doc. 2022-12998 Filed 6-15-22; 8:45 am]

BILLING CODE 6717-01-P